ENVIRONMENTAL PROTECTION AGENCY

[FRL-7173-9]

EPA Science Advisory Board; Notification of Public Advisory Committee Meetings; Underground Storage Tanks (UST) Cleanup/Resource Conservation and Recovery Act (RCRA); Program Benefits, Costs and Impacts (BCI) Review Panel

Pursuant to the Federal Advisory Committee Act, Public Law 92-463, notice is hereby given of three meetings of the Underground Storage Tanks (UST) Cleanup/Resource Conservation Recovery Act (RCRA) Program Benefits, Costs and Impacts (BCI) Review Panel (UST/RCRA BCI Review Panel, or “the Panel”) of the Executive Committee of the US EPA Science Advisory Board (SAB). The Panel will meet on the dates and times noted below. All times noted are Eastern Time. All meetings are open to the public, however, seating is limited and available on a first come basis. For teleconference meetings, available lines may also be limited. Important Notice: Documents that are the subject of SAB reviews are normally available from the originating EPA office and are not available from the SAB Office—information concerning availability of documents from the relevant Program Office is included below.

Background

In 1996, the Office of Solid Waste and Emergency Response (OSWER) began to develop methodologies to better characterize the costs and benefits (including environmental, health, and other human welfare benefits) and other impacts of its various environmental programs. As a first step, OSWER staff identified a set of program attributes that describe a broad range of potential impacts that may result from OSWER programs. This list of attributes included the traditional economic benefit/cost measures, but also went beyond them to try to capture other program features and factors that influence the design, implementation, and performance of OSWER programs and that OSWER managers believed were important to characterize in any analysis of the performance of their programs (e.g., sustainability, stakeholder issues, impacts on long-term behavioral changes, and regulatory constraints). OSWER selected two of its programs (a prevention program and a cleanup program) to serve as pilots to test the practical application of these attributes in characterizing and measuring program performance and impacts. The OSWER draft document to be reviewed as an advisory by the Panel addresses one of these two pilot programs, namely the Underground Storage Tank (UST) cleanup program. The purpose of the draft document is to present a range of potential methods OSWER could use to characterize or quantify each of the relevant attributes for the UST cleanup program, together with the advantages, disadvantages, and uncertainties. The methods range from relatively simple to more complex, resource-intensive methods.

The EPA Science Advisory Board (SAB, Board) announced in 66 FR 44343-44344, August 23, 2001, that it has been asked to undertake a review of the Underground Storage Tanks (UST) Cleanup and Resource Conservation Recovery Act (RCRA) Subtitle C Program Benefits, Costs and Impacts. The Board invited nominations for consideration on the review panel being formed. The SAB's process for panel formation has been designed for three purposes: to help the Board meet EPA's legal requirements; to be transparent to the public, so the public can understand and participate in the process; and to help the Board fulfill its mission. Approximately 2-dozen nominations were received in response to the Federal Register announcement. Coupled with nominees from other sources (Agency, SAB members, and SAB Staff), approximately 120 candidates were identified as viable for further consideration. This list now has been narrowed down to 19 candidates, based upon interest, availability, credentials, expertise needed, etc. (see below for more detail) of which approximately 10 candidates will be selected for this review. Five of the nineteen candidates on the current list were suggested through the Federal Register nomination process. The background, charge, and description of the review documents appear in the above referenced Federal Register notice, and are also available on the SAB Web site (http://www.epa.gov/sab/ustrcrainvita.pdf).

The expertise appropriate to address the charge questions includes environmental economics, preferably with (a) experience in waste and groundwater contamination issues; (b) experience with EPA's Resource Conservation and Recovery Act (RCRA) program and Underground Storage Tank (UST) program; (c) demonstrated knowledge of waste and groundwater contamination issues, particularly in the RCRA and UST; and (d) social science perspectives.

The criteria for selecting Panel members include (a) recognized expertise; (b) impartiality and objectivity; (c) absence of conflicts of interest; (d) availability to participate fully in the review, which will be conducted over a relatively short time frame (i.e., within approximately 3 months); and (e) collectivity, a balanced range of scientific perspectives on the issues. Panel members are expected to perform one face-to-face public meeting, and two public teleconference meetings over the course of 3 months. In addition, they will review and help finalize the report of the Panel that will be reviewed and approved by the SAB Executive Committee (EC) prior to its transmittal to the EPA Administrator.

1. Underground Storage Tanks (UST) Cleanup/Resource Conservation Recovery Act (RCRA) Program Benefits, Costs and Impacts (BCI) Review Panel (UST/RCRA BCI Review Panel)—May 9, 2002 Teleconference

The Underground Storage Tanks (UST) Cleanup/Resource Conservation Revovery Act (RCRA) Program Benefits, Costs and Impacts Review Panel of the Executive Committee of the US EPA Science Advisory Board (SAB) will meet on Thursday, May 9, 2002 via teleconference from 3:00 pm to 5:00 pm Eastern Time. This teleconference meeting will be convened in Conference Room 6013, USEPA, Ariel Rios Building North, 1200 Pennsylvania Avenue, NW, Washington, DC 20004. The meeting is open to the public, however, due to limited space, seating will be on a first-come basis—the public may also attend via telephone, however, lines may be limited. For further information concerning the meeting or how to obtain the phone number, please contact the individuals listed at the end of this FR notice.

Purpose of the Meeting

The purpose of this public teleconference meeting is to: (a) Discuss the Charge and the adequacy of the review materials provided to the Panel; (b) to clarify any questions and issues relating to the charge and the review materials; (c) to discuss specific charge assignments to the Panelists; and (d) to clarify specific points of interest raised by the Panelists in preparation for the face-to-face meeting to be held on Monday, May 20 and Tuesday, May 21, 2002.

See below for availability of review materials and contact information.

2. Underground Storage Tanks (UST) Cleanup/Resource Conservation Recovery Act (RCRA) Program Benefits, Costs and Impacts (BCI) Review Panel (Panel)—May 20 and 21, 2002 Meeting

The Underground Storage Tanks UST Cleanup Resource Conservation Recovery Act (RCRA) Program Benefits, Costs and Impacts (BCI) Review Panel (Panel) of the Executive Committee of the US EPA Science Advisory Board (SAB) will conduct a public meeting on Monday, May 20 and Tuesday, May 21, 2002. The meeting will begin on Monday, May 20, 2002 at 9 am and adjourn no later than 5:30 pm that day. On May 21, 2002, the meeting may begin at 8:30 am and adjourn no later than 5:30 pm. The meeting will take place in the Large Conference Room 1117 in the EPA East Headquarters Building, 1201 Constitution Avenue, NW, Washington, DC 20004. For further information concerning the meeting, please contact the individuals listed at the end of this FR notice.

Purpose of the Meeting

The purpose of this meeting is to conduct a review of the UST and RCRA Title C Benefit, Cost and Impact documents. In particular, the Panel will: (a) Engage in dialogue with appropriate officials from the Agency who are responsible for preparation and utilization of the draft documents dated October, 2000; (b) receive public comments on the technical issues involved and; (c) begin to prepare responses to the Charge questions (see below).

The Proposed Charge

The Office of Solid Waste and Emergency Response (OSWER) is requesting that the EPA Science Advisory Board (SAB) review the following documents: “Approaches to Assessing the Benefits, Costs, and Impacts of the RCRA Subtitle C Program” and “Approaches to Assessing the Benefits, Costs, and Impacts of the Office of Underground Storage Tanks Cleanup Program.” The text of the draft Charge to the SAB is posted on the SAB Web site at: http://www.epa.gov/sab/ustcharge.pdf.

See below for availability of review materials and contact information for the meeting.

3. Underground Storage Tanks (UST) Cleanup/Resource Conservation Recovery Act (RCRA) Program Benefits, Costs and Impacts (BCI) Review Panel (UST/RCRA BCI Review Panel)—June 18, 2002 Contingency Teleconference

Purpose of the Meeting

Depending on progress achieved in developing its advisory from the May 20-21, 2002 meeting, the Underground Storage Tanks (UST) Cleanup/Resource Conservation Recovery Act (RCRA) Program Benefits, Costs and Impacts (BCI) Review (Panel) of the Executive Committee of the Science Advisory Board (SAB) may convene in a public teleconference on Tuesday, June 18 from 2 p.m. to 4 p.m. This purpose contingency meeting would provide an opportunity for the Panel to reach closure on a consensus draft in a public forum. If held, the meeting will be convened in Conference Room 6013, US EPA, Ariel Rios Building North, 1200 Pennsylvania Avenue, NW, Washington, DC 20004. The meeting is open to the public, however, due to limited space, seating will be on a first-come basis—the public may also attend via telephone, however, lines may be limited. For further information concerning the meeting or how to obtain the phone number, please contact the individuals listed at the end of this FR notice.

The public is encouraged to attend the meeting in the conference room noted above, however, a limited number of the public may also attend through a telephonic link. Additional instructions about how to participate in the meeting can be obtained by calling the individuals listed below prior to the meeting (see contact information given below). The teleconference will be convened only if, in the opinion of the Panel Chair, it is needed to address issues that require further discussion prior to completion of the Panel's report. A decision as whether or not this teleconference will be convened will be made by close of business, Tuesday, June 4, 2002, 14 days prior to the tentatively scheduled date. The decision on the teleconference will be posted to the SAB Web site (www.epa.gov/sab); or members of the public may contact Ms. Renee Cooper (see contact information given below). Availability of Review Materials—If this teleconference is to be held, a list of the issues to be discussed, along with a draft meeting agenda, will be posted on the SAB Web site (www.epa.gov/sab) under the “Agenda” heading on or about June 7, 2002. If the meeting is canceled, a notice will be posted on the SAB website to that effect, as well under the “New” heading of the Web page.

For Further Information

Any member of the public wishing further information concerning these meetings or who wish to submit brief oral comments must contact Dr. K. Jack Kooyoomjian, Designated Federal Officer, of the Panel, USEPA Science Advisory Board (1400A), Suite 6450BB, 1200 Pennsylvania Avenue, NW, Washington, DC 20460; telephone/voice mail at (202) 564-4557; fax at (202) 501-0582; or via e-mail at kooyoomjian.jack@epa.gov. Requests to present oral comments must be in writing (e-mail, fax or mail) and received by Dr. Kooyoomjian, no later than noon Eastern Time five business days prior to the meeting date (May 2, 2002, May 13, and June 11, 2002, respectively, for the three meetings). See below for information on public comments.

Members of the public desiring additional information about the meeting locations or the call-in number for the teleconference, should contact Ms. Renee Cooper, Acting Management Assistant, U.S. EPA, EPA Science Advisory Board (1400A), Suite 6450, 1200 Pennsylvania Avenue, NW, Washington, DC 20460; telephone/voice mail at (202) 564-2526; fax at (202) 501-0582; or via e-mail at cooper.renee@epa.gov.

A copy of the draft agenda for each meeting will be posted on the SAB Web site (www.epa.gov/sab) (under the AGENDAS subheading) approximately 10 days before that meeting.

Availability of Review Materials

There are two primary documents that are the subject of the review. The review documents are available electronically at the following site http://www.epa.gov/swerrims/oswerdoc.htm. For questions and information pertaining to the review documents, please contact Mr. David S. Nicholas, Policy Analysis and Regulatory Management Staff, Office of Solid Waste and Emergency Response (Mail Code 5103), U.S. Environmental Protection Agency, SE-306 Waterside Mall, 401 M St, SW, Washington, DC 20460; tel. (202) 260-4512, FAX (202) 401-1496, e-mail: nicholas.david@epa.gov. Mr. Nicholas will refer you to the appropriate contact for the particular issue of interest. The review document which is the subject of this review is cited as follows:

Approaches to Assessing the Benefits, Costs, and Impacts of the Office of Underground Storage Tanks Cleanup Program, Draft Report, Prepared for the U.S. Environmental Protection Agency, Office of Solid Waste, Prepared by Industrial Economics, Inc., October, 2000

Approaches to Assessing the Benefits, Costs, and Impacts of the RCRA Subtitle C Program, Draft Report, Prepared for the U.S. Environmental Protection Agency, Office of Solid Waste, Prepared by Industrial Economics, Inc., October, 2000

The above supporting documents are available for viewing at the OSWER Docket, located at Crystal Gateway I, First Floor, 1235 Jefferson Davis Highway, Arlington, VA. The Docket Identification number is F-2002-USBN-FFFFF. The OSWER Docket is open from 9 a.m. to 4 p.m., Monday through Friday, excluding federal holidays. To review docket materials, it is recommended that the public make an appointment by calling 703 603-9230. The public may copy a maximum of 100 pages from any regulatory docket at no charge. Additional copies cost $0.15/page. The public can also contact the OSWER Docket by facsimile (703-603-9234), e-mail (RCRA-Docket@epamail.epa.gov). The postal address is OSWER Docket, 1200 Pennsylvania Avenue, NW, mailcode 5305G Washington, DC 20460.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: One hard copy with original signature, and one electronic copy via e-mail (acceptable file format: Adobe Acrobat, WordPerfect, Word, or Rich Text files (in IBM-PC/Windows 95/98 format). Those providing written comments at the meeting are also asked to bring 35 copies of their comments for public distribution.

Meeting Access

Individuals requiring special accommodation at this meeting, including wheelchair access to the conference room, should contact Dr. Kooyoomjian at least five business days prior to the meeting so that appropriate arrangements can be made.

General Information

Additional information concerning the Science Advisory Board, its structure, function, and composition, may be found on the SAB Web site (http://www.epa.gov/sab) and in the Science Advisory Board FY2001 Annual Staff Report which is available from the SAB Publications Staff at (202) 564-4533 or via fax at (202) 501-0256.

Dated: April 15, 2002.
Donald G. Barnes,
Staff Director, EPA Science Advisory Board.

[FR Doc. 02-9791 Filed 4-19-02; 8:45 am]

BILLING CODE 6560-50-P